DEPARTMENT OF THE INTERIOR

National Park Service

[NPS-WASO-NAGPRA-NPS0034986; PPWOCRADN0-PCU00RP14.R50000]

Notice of Inventory Completion Amendment: Robert S. Peabody Institute of Archaeology, Andover, MA

AGENCY: National Park Service, Interior.

ACTION: Notice; amendment.

SUMMARY: In accordance with the Native American Graves Protection and Repatriation Act (NAGPRA), the Robert S. Peabody Institute of Archaeology (RSPI) has amended a Notice of Inventory Completion published in the Federal Register on October 31, 2007. This notice amends the minimum number of individuals, number of associated funerary objects, and cultural affiliation of human remains and associated funerary objects removed from Bolivar County, MS.

DATES: Repatriation of the human remains and associated funerary objects in this notice may occur on or after January 9, 2023.

ADDRESSES: Dr. Ryan J. Wheeler, Robert S. Peabody Institute of Archaeology, Phillips Academy, 180 Main Street, Andover, MA 01810, telephone (978) 749-4490, email rwheeler@andover.edu.

SUPPLEMENTARY INFORMATION: This notice is published as part of the National Park Service's administrative responsibilities under NAGPRA. The determinations in this notice are the sole responsibility of the RSPI. The National Park Service is not responsible for the determinations in this notice. Additional information on the amendments and determinations in this notice, including the results of consultation, can be found in the inventory or related records held by the RSPI.

Amendment

This notice amends the determinations published in a Notice of Inventory Completion in the Federal Register (72 FR 61674, October 31, 2007). Repatriation of the items in the original Notice of Inventory Completion has not occurred. Additional human remains and associated funerary objects from Bolivar County, MS, held by the RSPI were identified during an inventory project. Review of RSPI records indicates that consultation did not occur prior to the publication of the Notice of Inventory Completion in 2007. Consultation was conducted in 2021 and 2022, providing evidence for reassessment of cultural affiliation. This notice amends the minimum number of individuals and the number of associated funerary objects as listed in the original notice. Human remains representing, at minimum, one individual removed from Bolivar County, MS, were added to the inventory. In addition, 751 associated funerary objects removed from Bolivar County, MS, were added to the inventory. Also, the cultural affiliation of the human remains and associated funerary objects in this notice are amended.

From Alligator Mounds in Bolivar County, MS, eight individuals were removed (previously identified as seven individuals). The 775 associated funerary objects (previously identified as 24 associated funerary objects) are 24 bone awls, 44 bifaces, 199 faunal remains, two carbon samples, four chipped stone objects, 14 cobbles, three concretions, 24 cores, two fragments of daub, one drill, four fragments of fire cracked rock, 71 flakes, one unknown cylindrical object, one game piece, one broken stone fragment, one flat stone, two sharpening stones, one pitted stone, six fragments of a pill-shaped ceramic object, four modified animal bones, two pecked stones, nine charred seeds or nuts, 26 pebbles, one pendant, one perforator, two pieces petrified wood, two pigment stones, one pipe fragment, one plummet fragment, four rectangular polishing stones, six projectile point preforms, two scrapers, 34 shell fragments, 269 ceramic sherds, four unmodified stones, and two quartz fragments.

Determinations (As Amended)

Pursuant to NAGPRA and its implementing regulations, and after consultation with the appropriate Indian Tribes and Native Hawaiian organizations, the RSPI has determined that:

• The human remains described in this amended notice represent the physical remains of eight individuals of Native American ancestry.

• The 775 objects described in this amended notice are reasonably believed to have been placed with or near individual human remains at the time of death or later as part of the death rite or ceremony.

• There is a relationship of shared group identity that can be reasonably traced between the human remains and associated funerary objects described in this notice and the Quapaw Nation (previously listed as The Quapaw Tribe of Indians); The Muscogee (Creek) Nation; and the Tunica-Biloxi Indian Tribe.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 9, 2023. If competing requests for repatriation are received, the RSPI must determine the most appropriate requestor prior to repatriation. Requests for joint repatriation of the human remains and associated funerary objects are considered a single request and not competing requests. The RSPI is responsible for sending a copy of this notice to the Indian Tribes identified in this notice.

Authority: Native American Graves Protection and Repatriation Act, 25 U.S.C. 3003, and the implementing regulations, 43 CFR 10.9, 10.10, 10.13, and 10.14.

Dated: November 30, 2022.
Melanie O'Brien,
Manager, National NAGPRA Program.

[FR Doc. 2022-26798 Filed 12-8-22; 8:45 am]

BILLING CODE 4312-52-P